POSTAL REGULATORY COMMISSION

Sunshine Act Meetings

TIME AND DATE: Wednesday, March 3, 2010 at 11 a.m.

PLACE: Commission hearing room, 901 New York Avenue, NW., Suite 200, Washington, DC 20268-0001.

STATUS: The portion of the meeting dealing with agenda items 1 through 6 will be open to the public. The remainder of the meeting (agenda items 7 through 9) will be closed to the public. The public session will be podcast.

MATTERS TO BE CONSIDERED:

1. Report on international activities (open).

2. Commission participation in Congressional staff briefings (open).

3. Status of Annual Compliance Review (open).

4. Status of other active cases (open).

5. Update on recent activities of Joint Periodicals Task Force and status of anticipated report to the Congress pursuant to section 708 of the Postal Accountability and Enhancement Act of 2006 (open).

6. Discussion of Postal Service's March 2, 2010 presentation on its future business model (open).

7. Discussion of pending litigation (USPS v. PRC) (closed).

8. Personnel matters—compensation and senior staff goals (closed).

9. Discussion of confidential commercial information relative to Commission contracts (closed).

CONTACT PERSON FOR FURTHER INFORMATION: Stephen L. Sharfman, General Counsel, Postal Regulatory Commission, at 202-789-6820 or stephen.sharfman@prc.gov (for questions concerning the agenda) and Shoshana M. Grove at 202-789-6842 or shoshana.grove@prc.gov (for questions concerning podcasting).

Dated: February 19, 2010.
Shoshana M. Grove,
Secretary.

[FR Doc. 2010-3809 Filed 2-22-10; 8:45 am]

BILLING CODE 7710-FW-S